DEPARTMENT OF COMMERCE

Foreign-Trade Zones Board

[Docket 25-2006]

Foreign-Trade Zone 231 -- Stockton, California, Application for Expansion

An application has been submitted to the Foreign-Trade Zones (FTZ) Board (the Board) by the Stockton Port District, grantee of FTZ 231, requesting authority to expand its zone in the Stockton area within and adjacent to the San Francisco/Oakland/Sacramento Consolidated Customs port of entry. The application was submitted pursuant to the provisions of the Foreign-Trade Zones Act, as amended (19 U.S.C. 81a-81u), and the regulations of the Board (15 CFR part 400). It was formally filed on June 14, 2006.

FTZ 231 was approved on April 15, 1998 (Board Order 967, 63 FR 23719, 4/30/98). The general-purpose zone currently consists of three sites (3,111 acres) in the Stockton area: Site 1 (600 acres) -- within the Port of Stockton complex on the Stockton Deepwater Ship Channel; Site 2 (1,058 acres) -- Rough and Ready Island on the Stockton Deepwater Ship Channel; and, Site 3 (1,453 acres) -- Stockton Metropolitan Airport.

The applicant is now requesting authority to expand an existing site and to include four new sites in the area: Expand Site 2 to include an additional 375 acres within the Port's Rough and Ready Island (total acreage - 1,433 acres); Proposed Site 4 (67 acres) -- within the 72-acre ProLogis Park Tracy I, located at Grant Line Road and Paradise Avenue, Tracy; Proposed Site 5 (168 acres) -- ProLogis Park Tracy II, 1941 North Chrisman Road, Tracy; Proposed Site 6 (77 acres) -- within the 600-acre ProLogis Park Patterson Pass, 25882 South Corporate Court, Tracy; and, Proposed Site 7 (106 acres) -- ProLogis Park Duck Creek, 4720 East Farmington Road, Stockton. The sites will provide public warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is August 21, 2006. Rebuttal comments in response to material submitted during the foregoing period may be submitted during the subsequent 15-day period to September 5, 2006.

A copy of the application and accompanying exhibits will be available for public inspection at each of the following locations: Port of Stockton Executive Office, 2201 W. Washington Street, Stockton, CA 95201; and, Office of the Executive Secretary, Foreign-Trade Zones Board, Room 1115, U.S. Department of Commerce, 1401 Constitution Avenue, NW., Washington, DC 20230.

Dated: June 14, 2006.
Pierre V. Duy,
Acting Executive Secretary.

[FR Doc. E6-9820 Filed 6-20-06; 8:45 am]

BILLING CODE 3510-DS-S